CONSUMER PRODUCT SAFETY COMMISSION

Sunshine Act Meeting

TIME AND DATE: Wednesday, March 6, 2024—9:00 a.m. Open; and Wednesday, March 6, 2024—10:00 a.m. Closed (See MATTERS TO BE CONSIDERED for each meeting).

PLACE: Room 420, Bethesda Towers, 4330 East-West Highway, Bethesda, MD.

STATUS: Commission Meetings—Open to the Public (9:00 a.m.) and Closed to the Public (10:00 a.m.)

MATTERS TO BE CONSIDERED:

Open Session

Briefing on Notice of Proposed Rulemaking—Safety Standard For Bassinets.

A live webcast of the meeting can be viewed at the following link:

https://cpsc.webex.com/cpsc/j.php?MTID=mc6b3eb323e9fa7d92befe190d201ba57.

Closed Session

Briefing on multiple matters.

CONTACT PERSON FOR MORE INFORMATION: Alberta E. Mills, Office of the Secretary, U.S. Consumer Product Safety Commission, 4330 East West Highway, Bethesda, MD 20814, 301-504-7479 (Office) or 240-863-8938 (Cell).

Dated: February 28, 2024.
Alberta E. Mills,
Commission Secretary.

[FR Doc. 2024-04498 Filed 2-28-24; 4:15 pm]

BILLING CODE 6355-01-P